CONSUMER PRODUCT SAFETY COMMISSION

Sunshine Act Meeting

TIME AND DATE: Wednesday, December 3, 2014, 10:00 a.m.-12:00 p.m.

PLACE: CPSC's National Product Testing and Evaluation Center, 5 Research Place, Rockville, MD 20850.

STATUS: Commission Meeting—Open to the Public.

Matter To Be Considered: Briefing Matter: Fiscal Year 2015 Operating Plan.

A live webcast of the Meeting can be viewed at www.cpsc.gov/live.

CONTACT PERSON FOR MORE INFORMATION: Todd A. Stevenson, Office of the Secretary, U.S. Consumer Product Safety Commission, 4330 East West Highway, Bethesda, MD 20814, (301) 504-7923.

Dated: November 26, 2014.
Alberta E. Mills,
Acting Secretary, U.S. Consumer Product Safety Commission.

[FR Doc. 2014-28385 Filed 11-26-14; 4:15 pm]

BILLING CODE 6355-01-P